NATIONAL AERONAUTICS AND SPACE ADMINISTRATION

Public Availability of the National Aeronautic and Space Administration FY 2010 Service Contract Inventory

AGENCY: National Aeronautic and Space Administration.

ACTION: Notice of public availability of FY 2010 Service Contract Inventories.

SUMMARY: In accordance with Section 743 of Division C of the Consolidated Appropriations Act of 2010 (Pub. L. 111-117), National Aeronautic and Space Administration (NASA) is publishing this notice to advise the public of the availability of its FY 2010 Service Contract inventory. This inventory provides information on service contract actions over $25,000 that were made in FY 2010. The information is organized by function to show how contracted resources are distributed throughout the agency. The inventory has been developed in accordance with guidance issued on November 5, 2010, by the Office of Management and Budget's Office of Federal Procurement Policy (OFPP).

NASA has posted its inventory and a summary of the inventory on the NASA Office of Procurement homepage at the following link: http://www.hq.nasa.gov/office/procurement/scinventory/index.html.

Point of contact for this initiative is Sandra Morris (202) 358-0532, Sandra.morris@nasa.gov.

William McNally,
Assistant Administrator for Procurement.

[FR Doc. 2011-2770 Filed 2-7-11; 8:45 am]

BILLING CODE 7510-01-P